DEPARTMENT OF COMMERCE

National Oceanic and Atmospheric Administration

Agency Information Collection Activities; Submission to the Office of Management and Budget (OMB) for Review and Approval; Comment Request; User Needs Survey by the Space Weather Advisory Group

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 16, 2022 (87 FR 50291) during a 60-day comment period. This notice allows for an additional 30 days for public comments.

Agency: National Oceanic & Atmospheric Administration (NOAA), Commerce.

Title: User Needs Survey by the Space Weather Advisory Group.

OMB Control Number: 0648-XXXX.

Form Number(s): None.

Type of Request: Regular submission (New information collection).

Number of Respondents: 491.

Average Hours per Response:

• Aviation: 1 hour.

• Emergency Management: 8 hours.

• Global Navigation Satellite System: 15 minutes (Survey) and 1 hour (Interview).

• Human Space Flight: 1 hour.

• Power Grid: 1 hour.

• Research Sector: 1 hour.

• Space Situational Awareness: 1 hour.

Total Annual Burden Hours: 459.

Needs and Uses: The data collection is sponsored by DOC/NOAA/NWS/Space Weather Advisory Group (SWAG). The SWAG is required under 51 U.S.C. 60601(d)(3) to undertake a comprehensive survey of space weather product users to identify the “research, observations, forecasting, prediction, and modeling advances required to improve space weather products.” Specifically, the SWAG will (i) assess the adequacy of current Federal Government goals for lead time, accuracy, coverage, timeliness, data rate, and data quality for space weather observations and forecasting; (ii) identify options and methods to, in consultation with the academic community and the commercial space weather sector, improve upon the advancement of the goals described in clause (i); (iii) identify opportunities for collection of new data to address the needs of the space weather user community; (iv) identify methods to increase coordination of space weather research to operations and operations to research; (v) identify opportunities for new technologies, research, and instrumentation to aid in research, understanding, monitoring, modeling, prediction, forecasting, and warning of space weather; and (vi) identify methods and technologies to improve preparedness for potential space weather phenomena.

This collection identified seven sectors (Aviation, Emergency Management, Global Navigation Satellite System, Human Space Flight, Power Grid, Research, and Space Situational Awareness/Space Traffic Management) that will be consulted as part of this effort. Information will be collected on a one-off basis from each of the sectors. Respondents in each sector include the general public, defined as adults ages 18+. Members of the SWAG will oversee recruitment of the respondents. Respondents will be asked questions about their current use of space weather observations, information, and forecasts, technological systems, components or elements affected by space weather, current and future risk and resilience activities, future space weather requirements, and unused or new types of measurements or observations that would enhance space weather risk mitigation. This data collection serves many purposes, including gaining a better understanding of the needs of users of space weather products. The SWAG will use the data to identify the space weather research, observations, forecasting, prediction, and modeling advances required to improve space weather products. Specifically, the information will be used to advise the National Science and Technology Council's Space Weather Operations, Research, and Mitigation (SWORM) Subcommittee on improving the ability of the United States to prepare for, mitigate, respond to, and recover from space weather storms.

Affected Public: Individuals or households; Business or other for-profit organizations; Not-for-profit institutions; State, Local, or Tribal government; Federal government.

Frequency: Once.

Respondent's Obligation: Voluntary.

Legal Authority: 51 U.S.C. 60601, Space weather.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2023-09738 Filed 5-5-23; 8:45 am]

BILLING CODE 3510-KE-P